DEPARTMENT OF TRANSPORTATION

Federal Highway Administration

Environmental Impact Statement: Randolph County, NC

AGENCY: Federal Highway Administration, DOT.

ACTION: Notice of intent.

SUMMARY: The FHWA is issuing this notice to advise the public that an environmental impact statement will be prepared for a proposed highway project in Randolph County, North Carolina.

FOR FURTHER INFORMATION CONTACT: Mr. Roy C. Shelton, Operations Engineer, Federal Highway Administration, 310 New Bern Avenue, Suite 410, Raleigh, North Carolina 27601. Telephone: (919) 856-4350.

SUPPLEMENTARY INFORMATION: The FHWA, in cooperation with the North Carolina Department of Transportation (NCDOT), will prepare an environmental impact statement (EIS) addressing proposed improvements to the existing United States Route (US) 64 corridor in the area of the City of Asheboro in Randolph County. As part of this action, the NCDOT also proposes to improve the access to the North Carolina Zoological Park (NC Zoo). The proposed improvements would involve the construction of a four-lane, median-divided, controlled-access highway on new location south of existing US 64 from around SR 1326 (Stutts Road) west of Asheboro to around SR 2713 (Trogdon Hill Road) east of Asheboro. A controlled-access facility on new location also is proposed west of NC 159 to improve access to the NC Zoo.

The purposes of the proposed action include: (1) Improving traffic flow and levels of service on the section of US 64 in the project study area; (2) Relieving congestion on US 64 in the City of Asheboro, thereby improving safety and reducing the number of accidents; (3) Improving access to the NC Zoological Park; and (4) Improving high-speed regional travel along the US 64 intrastate corridor.

Alternatives under consideration include: (1) No-Build Alternative; (2) Transportation Systems Management (TSM) Measures; (3) Mass Transit Alternative; (4) Improving the existing facility; and (5) Constructing a facility on new location south of existing US 64.

Letters describing the proposed action and soliciting comments have been sent to appropriate Federal, State and local agencies. Public information meetings, meetings with local officials, and a public hearing will be held. Information on the time and place of the public information meetings, and public hearing will be provided in the local news media. The draft EIS will be available for public and agency review and comment prior to the public hearing.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program).
Issued on: April 4, 2000.
Roy C. Shelton,
Operations Engineer, Federal Highway Administration, Raleigh, North Carolina.

[FR Doc. 00-9227 Filed 4-12-00; 8:45 am]

BILLING CODE 4910-22-M